DEPARTMENT OF HOUSING AND URBAN DEVELOPMENT

[Docket No. FR-4655-N-07]

Notice of Proposed Information Collection: Comment Request; Multifamily Contractor's, Mortgagor's, Borrower's Cost Breakdown and Certification

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: May 7, 2001.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, DC 20410.

FOR FURTHER INFORMATION CONTACT: Michael McCullough, Director, Office of Multifamily Development, U.S. Department of Housing and Urban Development, 451 7th Street, SW, Washington, DC 20410, telephone number (202) 708-3000 (this is not a toll-free number), for copies of the proposed forms and other available information.

SUPPLEMENTARY INFORMATION: The Department is submitting the proposed information collection to OMB for review, as required by the Paperwork Reduction Act of 1955 (44 U.S.C. Chapter 35, 12 amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Multifamily Contractor's, Mortgagor's, Borrower's Cost Breakdowns and Certification.

OMB Control Number, if Applicable: 2502-0044.

Description of the Need for the Information and Proposed Use: Form HUD-2328 is used by contractors to establish a schedule of values of construction items on which the monthly advances or mortgage proceeds are based. HUD-92330-A is used by contractors to convey actual construction costs in a standardized format of cost certification. In addition to assuring that the mortgage proceeds have not been used for purposes other than construction cost, form HUD-92330-A further protects the interest of the Department by directly monitoring the accuracy of the itemized trades in form HUD-2328, and also serves as project data to keep field office cost data banks and cost estimates current and accurate. HUD-2205 is used to certify the actual construction and improvement costs of Section 220 and 234 projects. HUD-2205-A is used to certify the actual costs of acquisition or refinancing of projects insured under the Section 223(f) program.

Agency Form Numbers, if Applicable: HUD-2328, HUD-92330-A, HUD-2205, HUD-2205-A.

Estimation of the Total Numbers of Hours Needed to Prepare the Information Collection Including Number of Respondents, Frequency of Response, and Hours of Response: The estimated number of respondents for form HUD-2328 is 500, the frequency of responses is 1, the number of hours per response is 8, for a total of 4,000 annual burden hours. The estimated number of respondents for form HUD-92330-A is 350, the frequency of responses is 1, the number of hours per response is 16, for a total of 5,600 annual burden hours. The estimated number of respondents for form HUD-2205 is 10, the frequency of responses is 1, the hours per response is 8, for a total of 80 annual burden hours. The estimated number of respondents for form HUD-2205-A is 75, the frequency of responses is 1, the number of hours per response is 8, for a total of 600 annual burden hours.

Status of the Proposed Information Collection: Revision of a currently approved collection.

Authority: The Paperwork Reduction Act of 1995, 44 U.S.C., Chapter 35, as amended.

Dated: February 26, 2001.
Wayne Eddins,
Reports Management Officer, Office of the Chief Information Officer

[FR Doc. 01-5546 Filed 3-6-01; 8:45 am]

BILLING CODE 4210-27-M